FEDERAL TRADE COMMISSION

Children's Online Privacy Protection

AGENCY: Federal Trade Commission (FTC).

ACTION: Notice of opportunity to participate and obtain co-sponsorship in agency public awareness campaign.

SUMMARY: The FTC seeks to identify organizations interested in participating in the FTC's public awareness campaign concerning the Children's Online Privacy Protection Act and the FTC Rule that implements the Act. Participation by such organizations will involve the development and dissemination of informational materials co-sponsored by the FTC. Interested parties should submit a written statement explaining their interest and qualifications.

DATES: The FTC has not established a deadline, but it encourages interested organizations to submit the requested statement as early as possible.

FOR FURTHER INFORMATION CONTACT: Mr. Randy Satterfield, (202) 326-3407, Office of Consumer and Business Education, Bureau of Consumer Protection, FTC, 600 Pennsylvania Avenue, NW, Washington, DC 20580, or rsatterfield@ftc.gov.

SUPPLEMENTARY INFORMATION: Effective April 21, 2000, the Children's Online Privacy Protection Rule, 16 CFR Part 312, issued by the FTC to implement the Children's Online Privacy Protection Act (COPPA), 15 U.S.C. 6501 et seq., prohibits unfair or deceptive acts or practices in connection with the collection, use, or disclosure of personally identifiable information from and about children on the Internet. The Commission voted to issue its final Rule on October 20, 1999, and the Rule was published at 64 FR 59888 (November 3, 1999).

To promote greater public awareness of the Rule and the COPPA, the FTC has initiated a Children's Online Privacy Protection Act Communications Campaign (“COPPA Communications Campaign”). The Campaign is designed to provide parents, guardians, youngsters, teachers, and other members of the public with information about privacy on the Internet and the law's protections. The Campaign will help parents understand the legal obligations of Web site operators under the COPPA as well as options that parents have for protecting their children's personal information. You can visit the Campaign's Web site at the following Internet address: www.ftc.gov/kidzprivacy.

The Commission believes that encouraging the active involvement of a wide variety of corporations, associations, organizations, and other entities in this effort will lead to a broad and effective educational campaign. Thus, as part of its Campaign, the FTC is seeking to foster the efforts of other public and private for-profit and non-profit organizations in the development and dissemination of informational materials about COPPA and the FTC's Rule, by allowing such organizations to list the FTC as a co-sponsor in connection with their materials, subject to FTC staff review and approval of such materials. (Interested organizations should note at the outset that this co-sponsorship program will not be funded or supported by agency grant, contract, or otherwise, so each organization is expected to bear its own costs of participation.)

The Commission requests that organizations interested in pursuing such co-sponsorship opportunities submit a written statement to the FTC contact listed above, describing the background and nature of the organization's interest or role in children's privacy and/or the Internet, and the organization's experience and expertise in developing and disseminating public information materials addressing those issues. The statement must also describe the organization's ability to reach the target audiences discussed above, including the organization's financial, managerial, and operational capacity and resources for the printing, production, and distribution of brochures or booklets, public service spots, videos, Web-based promotions, posters, flyers, advertising, etc. The statement must also include any other information that may be relevant, such as pertinent individual or organizational affiliations and the potential, if any, for apparent or actual conflicts of interest. In addition, the statement must expressly acknowledge the organization's understanding and agreement that FTC co-sponsorship, if any, of the organization's activities would not be funded or supported by agency grant, contract, or otherwise, would not create any financial or property right in any natural or artificial person, and would be subject to FTC review and approval of the public information materials or activities to be co-sponsored. Finally, an authorized representative of the organization must sign the statement. The FTC will consider the organization's statement and other information made available to or obtained by the agency in determining whether it should co-sponsor or continue to co-sponsor a particular organization's public information efforts.

By direction of the Commission.
Donald S. Clark,
Secretary.

[FR Doc. 00-12754 Filed 5-19-00; 8:45 am]

BILLING CODE 6750-01-P